DEPARTMENT OF AGRICULTURE

Forest Service

Establishment of Elderberry Purchase Unit

AGENCY: Forest Service, USDA.

ACTION: Notice.

SUMMARY: On January 19, 2001, the Deputy Secretary of Agriculture created the Elderberry Purchase Unit. This purchase unit comprises 27.89 acres, more or less, within Los Angeles County, California.

EFFECTIVE DATE: Establishment of this purchase unit was effective January 19, 2001.

ADDRESSES: A copy of the establishment document, which includes the legal description of the lands within the purchase unit, and a copy of the map showing the purchase unit are on file and available for public inspection in the Office of the Director, Lands Staff, 4th Floor-South, Sidney R. Yates Federal Building, Forest Service, USDA, 201 14th Street, SW., Washington, DC 20250, between the hours of 8:30 a.m. and 4:30 p.m. on business days. Those wishing to inspect the map are encouraged to call ahead to (202) 205-1248 to facilitate entry into the building.

FOR FURTHER INFORMATION CONTACT: Jack Craven, Director, Lands Staff, Forest Service, USDA, P.O. Box 96090, Washington, DC 20090-6090, telephone: (202) 205-1248.

Dated: June 21, 2001.
James R. Furnish,
Acting Associate Chief for Natural Resources.

[FR Doc. 01-18731 Filed 7-26-01; 8:45 am]

BILLING CODE 3410-11-P